DEPARTMENT OF ENERGY

Federal Energy Regulatory Commission

[Docket No. EL05-128-000]

Quest Energy, L.L.C., Complainant v. Midwest Independent Transmission System Operator, Inc., Respondent; Notice of Complaint Requesting Fast Track Processing

June 23, 2005.

Take notice that on June 22, 2005, Quest Energy, L.L.C. (Quest) filed a complaint against Midwest Independent Transmission System Operator, Inc. (MISO) pursuant to Rule 206 of the Commission's Rules of Practice and Procedure (18 CFR 385.206). Quest's complaint states that MISO violated the express terms of its tariff by: (1) Requiring customers to post Security to cover the newly-imposed SECA surcharge; and (2) requiring payment into escrow of the SECA charges if the charge is disputed pursuant to the billing dispute provisions of the MISO tariff.

Any person desiring to intervene or to protest in of the above proceeding must file in accordance with Rules 211 and 214 of the Commission's Rules of Practice and Procedure (18 CFR 385.211 and 385.214) on or before 5 p.m. eastern time on the specified comment date. Anyone filing a motion to intervene or protest must serve a copy of that document on the Complainant. Respondent's answer and all interventions, or protests must be filed on or before the comment date. The Respondent's answer, motions to intervene, and protests must be served on the Complainants.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First Street, NE., Washington, DC 20426.

The filing in the above proceeding is accessible in the Commission's eLibrary system. It is also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Comment Date: 5 p.m. on July 7, 2005.

Linda Mitry,
Deputy Secretary.

[FR Doc. E5-4157 Filed 8-2-05; 8:45 am]

BILLING CODE 6717-01-P